DEPARTMENT OF ENERGY

Federal Energy Regulatory Commission

[Docket No. RM93-11-000]

Revisions to Oil Pipeline Regulations Pursuant to the Energy Policy Act of 1992; Annual Change in Producer Price Index for Finished Goods

May 15, 2002.

AGENCY: Federal Energy Regulatory Commission, Department of Energy.

ACTION: Notice of annual change in the producer price index for finished goods, minus one percent.

SUMMARY: The Commission is issuing the index that oil pipelines must apply to their July 1, 2001—June 30, 2002 index ceiling levels to compute their index ceiling levels for the period July 1, 2002 through June 30, 2003, in accordance with 18 CFR 342.3(d). This index, which is the percent change (expressed as a decimal) in the annual average Producer Price Index for Finished Goods from 2000 to 2001, minus one percent, is 0.009565. Oil pipelines must multiply their July 1, 2001—June 30, 2002 index ceiling levels by 1.009565 to compute their index ceiling levels for the period July 1, 2002 through June 30, 2003.

FOR FURTHER INFORMATION CONTACT: David Ulevich, Division of Tariffs and Rates Central, Central Group 4, Federal Energy Regulatory Commission, 888 First Street, NE., Washington, DC 20426, (202) 208-0678.

SUPPLEMENTARY INFORMATION:

Notice of Annual Change in the Producer Price Index for Finished Goods, Minus One Percent

May 15, 2002.

The Commission's regulations include a methodology for oil pipelines to change their rates through use of an index system that establishes ceiling levels for such rates. The index system as set forth at 18 CFR 342.3 is based on the annual change in the Producer Price Index for Finished Goods (PPI-FG), minus one percent. The regulations provide that each year the Commission will publish an index reflecting the final change in the PPI-FG, minus one percent, after the final PPI-FG is made available by the Bureau of Labor Statistics in May of each calendar year.

The annual average PPI-FG index figure for 2000 was 138.0 and the annual average PPI-FG index figure for 2001 was 140.7.¹ Thus, the percent change (expressed as a decimal) in the annual average PPI-FG from 2000 to 2001, minus one percent, is 0.009565.² Oil pipelines must multiply their July 1, 2001—June 30, 2002 index ceiling levels by 1.009565 ³ to compute their index ceiling levels for the period July 1, 2002, through June 30, 2003, in accordance with 18 CFR 342.3(d). For guidance in calculating the ceiling levels for each period beginning January 1, 1995,⁴ see Explorer Pipeline Company, 71 FERC 61,416 at n.6 (1995).

¹ The final figure for the annual average PPI-FG is published by the Bureau of Labor Statistics in mid-May of each year. This figure is publicly available from the Division of Industrial Prices and Price Indexes of the Bureau of Labor Statistics, at (202) 691-7705, and is available in print in August in Table 1 of the annual data supplement to the BLS publication Producer Price Indexes. The PPI data are also available via the Internet. The Internet address is [http://www.bls.gov/ppi]. To obtain the BLS data, click on Get Detailed Statistics, then click on Commodity Data under the Create Customized Tables (one screen) heading. At step 1, scroll all the way to the bottom and choose SOP. At step 2, scroll and choose SOP3000. At step 3, check the Not Seasonally Adjusted box and then click on Get Data at step 4.

² [140.7−138.0]/138.0 = 0.019565−.01 = 0.009565.

³ 1 + 0.009565 = 1.009565.

⁴ For a listing of all prior multipliers issued by the Commission, see the Commission's website, www.ferc.gov. The table of multipliers can be found under the headings “Oil” and “Index”.

Document Availability

In addition to publishing the full text of this document in the Federal Register, the Commission also provides all interested persons an opportunity to inspect or copy the contents of this document during normal business hours in the Public Reference Room at 888 First Street, NE, Room 2A, Washington, DC 20426.

The Commission Issuance Posting System (CIPS) provides access to the texts of formal documents issued by the Commission from November 14, 1994, to the present. CIPS can be accessed via Internet through FERC's Home Page (http://www.ferc.gov) on CIPS in ASCII and WordPerfect 6.1. User assistance is available at 202-208-2222 or by E-mail to cips.master@ferc.gov.

This document is also available through the Commission's Records and Information Management System (RIMS), an electronic storage and retrieval system of documents submitted to and issued by the Commission after November 16, 1981. Documents from November 1995 to the present can be viewed and printed. RIMS is available in the Public Reference Room or remotely via Internet through FERC's Home Page using the RIMS link or the Energy Information online icon. User assistance is available at 202-208-2222, or by E-mail to rimsmaster@ferc.gov.

Finally, the complete text on diskette in WordPerfect format may be purchased from the Commission's copy contract; American Electronic Imaging Company, Inc. American Electronic Imaging Company, Inc., is located at 888 First Street, NE., Suite 2A-16, Washington, DC 20426.

Magalie R. Salas
Secretary

[FR Doc. 02-12748 Filed 5-21-02; 8:45 am]

BILLING CODE 6717-01-P